FEDERAL ACCOUNTING STANDARDS ADVISORY BOARD

Release of Exposure Draft on Estimating the Historical Cost of General Property, Plant, and Equipment

AGENCY: Federal Accounting Standards Advisory Board.

ACTION: Notice of Release of Exposure Draft on Estimating the Historical Cost of General Property, Plant, and Equipment.

Board Action: Pursuant to 31 U.S.C. 3511(d), the Federal Advisory Committee Act (Pub. L. No. 92-463), as amended, and the FASAB Rules of Procedure, as amended in April, 2004, notice is hereby given that the Federal Accounting Standards Advisory Board (FASAB) has released the Exposure Draft on Estimating the Historical Cost of General Property, Plant, and Equipment.

The General Property, Plant, and Equipment Exposure Draft is available on the FASAB home page http://www.fasab.gov/exposure.html. Copies can be obtained by contacting FASAB at (202) 512-7350. Respondents are encouraged to comment on any part of the exposure draft. Written comments are requested by January 9, 2009, and should be sent to: Wendy M. Payne, Executive Director, Federal Accounting Standards Advisory Board, 441 G Street, NW., Suite 6814, Mail Stop 6K17V, Washington, DC 20548.

Any interested person may attend the meetings as an observer. Board discussion and reviews are open to the public. GAO Building Security requires advance notice of your attendance. Please notify FASAB of your planned attendance by calling (202) 512-7350 at least one day prior to the respective meeting.

FOR FURTHER INFORMATION, CONTACT: Wendy Payne, Executive Director, 441 G Street, NW., Washington, DC 20548, or call (202) 512-7350.

Authority: Federal Advisory Committee Act, Pub. L. No. 92463.

Dated: November 21, 2008.
Charles Jackson,
Federal Register Liaison Officer.

[FR Doc. E8-28192 Filed 11-28-08; 8:45 am]

BILLING CODE 1610-01-M